ENVIRONMENTAL PROTECTION AGENCY

[RCRA-2005-0007; FRL-8002-8]

Agency Information Collection Activities; Submission to OMB for Review and Approval; Comment Request; Information Requirements for Boilers and Industrial Furnaces: General Hazardous Waste Facility Standards, Specific Unit Requirements, and Part B Permit Application and Modification Requirements (Renewal), EPA ICR Number 1361.10, OMB Control Number 2050-0073

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on December 31, 2005. Under OMB regulations, the Agency may continue to conduct or sponsor the collection of information while this submission is pending at OMB. This ICR describes the nature of the information collection and its estimated burden and cost.

DATES: Additional comments may be submitted on or before December 28, 2005.

ADDRESSES: Submit your comments, referencing docket ID number RCRA-2005-0007, to (1) EPA online using EDOCKET (our preferred method), by e-mail to rcra-docket@epa.gov, or by mail to: EPA Docket Center, Environmental Protection Agency, RCRA Docket, Mail Code 5305T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Shiva Garg, Office of Solid Waste, Mail Code 5302W, Environmental Protection Agency, 1200 Pennsylvania Avenue, NW., Washington, DC 20460; telephone number: (703) 308-8459; fax number: (703) 308-8433; e-mail address: garg.shiva@epa.gov.

SUPPLEMENTARY INFORMATION: EPA has submitted the following ICR to OMB for review and approval according to the procedures prescribed in 5 CFR 1320.12. On April 21, 2005 (70 FR 20748), EPA sought comments on this ICR pursuant to 5 CFR 1320.8(d). EPA received no comments.

EPA has established a public docket for this ICR under Docket ID No. RCRA-2005-0007, which is available for public viewing at the RCRA Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Information Requirements for Boilers and Industrial Furnaces: General Hazardous Waste Facility Standards, Specific Unit Requirements, and Part B Permit Application and Modification Requirements (Renewal).

Abstract: EPA regulates the burning of hazardous waste in boilers, incinerators, and industrial furnaces (BIFs) under 40 CFR parts 63, 264, 265, 266 and 270. This ICR describes the paperwork requirements that apply to the owners and operators of BIFs. This includes the requirements under the comparable/syngas fuel specification at 40 CFR 261.38; the general facility requirements at 40 CFR parts 264 and 265, subparts B thru H; the requirements applicable to BIF units at 40 CFR part 266; and the RCRA Part B permit application and modification requirements at 40 CFR part 270. Examples of paperwork collected under these requirements include one-time notices, certifications, waste analysis data, inspection and monitoring records, plans reports, RCRA Part B permit applications and modifications. The responses to the collection of information are mandatory. EPA needs this information for the proper implementation, compliance tracking, and fulfillment of the congressionally delegated mandate under RCRA to protect public health and the environment. EPA, however, has taken steps to minimize the burden imposed on the facilities, and ensures the confidentiality of the provided information by complying with section 3007(b) of RCRA, Privacy Act of 1974 and OMB Circular #108. Based on information from the EPA Regions, we estimated at last renewal of this ICR that 91 BIF facilities are subject to the RCRA hazardous waste program. Of these, we estimate that 32 BIFs are currently under interim status and the remaining 59 are in permitted status. This renewal takes into account the current universe of the BIF facilities, and the current regulations applicable to them based on the amendments made to date.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2,626 hours per facility. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for-profit entities.

Estimated Number of Respondents: 91.

Frequency of Response: Varies (from on-occasion to annually).

Estimated Total Annual Hour Burden: 238,997 hours.

Estimated Total Annual Cost: $33,665,000, includes $ 7,855,000 annualized capital/ startup cost, $9,880,000 annual O&M costs and $15,930,000 annual labor costs.

Changes in the Estimates: There is a decrease of 68,952 hours in the total estimated burden currently identified in the OMB Inventory of Approved ICR Burdens. This decrease is the result of a program change of 50,188 hours due to the transitioning of burden into another ICR (#1773.08, OMB Control Number 2050-0171) as a result of the newly promulgated MACT rule under the Clean Air Act, and an adjustment of 18,764 hours due to a change in the respondent universe.

Dated: November 16, 2005.
Oscar Morales,
Director, Collection Strategies Division.

[FR Doc. E5-6590 Filed 11-25-05; 8:45 am]

BILLING CODE 6560-50-P